DEPARTMENT OF THE INTERIOR

Fish and Wildlife Service

[FWS-HQ-MB-2022-0056; FF09M21200-223-FXMB1231099BPP0; OMB Control Number 1018-0022]

Agency Information Collection Activities; Federal Fish and Wildlife Permit Applications and Reports—Migratory Birds

AGENCY: Fish and Wildlife Service, Interior.

ACTION: Notice of information collection; request for comment.

SUMMARY: In accordance with the Paperwork Reduction Act, we, the U.S. Fish and Wildlife Service (Service), are proposing to renew an existing information collection with revisions.

DATES: Interested persons are invited to submit comments on or before July 18, 2022.

ADDRESSES: Send your comments on the information collection request (ICR) by one of the following methods (please reference OMB Control Number “1018-0022” in the subject line of your comment):

• Internet (preferred): https://www.regulations.gov. Follow the instructions for submitting comments on Docket No. FWS-HQ-MB-2022-0056.

• Email: Info_Coll@fws.gov.

• U.S. mail: Service Information Collection Clearance Officer, U.S. Fish and Wildlife Service, Docket No. FWS-HQ-MB-2022-0056, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA; 44 U.S.C. 3501 et seq.) and its implementing regulations in the Code of Federal Regulations (CFR) at 5 CFR 1320, we provide the general public and other Federal agencies with an opportunity to comment on new, proposed, revised, and continuing collections of information. This helps us assess the impact of our information collection requirements and minimize the public's reporting burden. It also helps the public understand our information collection requirements and provide the requested data in the desired format.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The U.S. Fish and Wildlife Service's regional migratory bird permit offices use information that we collect on permit applications to determine the eligibility of applicants for permits requested in accordance with the criteria in various Federal wildlife conservation laws and international treaties, including:

(1) Migratory Bird Treaty Act (16 U.S.C. 703 et seq.).

(2) Lacey Act (18 U.S.C. 42; 16 U.S.C. 3371 et seq.).

(3) Bald and Golden Eagle Protection Act (16 U.S.C. 668 et seq.).

Service regulations implementing these statutes and treaties are in chapter I, subchapter B of title 50 of the Code of Federal Regulations (CFR), parts 10, 13, 20, and 21. These regulations stipulate general and specific requirements that, when met, allow us to issue permits to authorize activities that are otherwise prohibited.

Generally, with the exception of forms 3-186 and 3-186a, all Service migratory bird permit application and report forms are in the 3-200 and 3-202 series of forms, each tailored to a specific activity based on the requirements for specific types of permits. We collect standard identifier information for all permits. The information that we collect on applications and reports is the minimum necessary for us to determine if the applicant meets/continues to meet issuance requirements for the particular activity.

In accordance with Federal regulations at 50 CFR 13.12, we collect standard identifier information for all permit applications, such as:

• Applicant's full name and address (street address, city, county, State, and zip code; and mailing address if different from street address); home and work telephone numbers; and a fax number and email address (if available), and

—If the applicant resides or is located outside the United States, an address in the United States, and, if the applicant is applying for permission to conduct commercial activities, the name and address of his or her agent that is located in the United States; and

—If the applicant is an individual, the date of birth, occupation, and any business, agency, organizational, or institutional affiliation associated with the wildlife or plants to be covered by the license or permit; or

—If the applicant is a business, corporation, public agency, or institution, the tax identification number; description of the business type, corporation, agency, or institution; and the name and title of the person responsible for the permit (such as president, principal officer, or director);

• Location where the requested permitted activity is to occur or be conducted;

• Certification containing the following language:

—“I hereby certify that I have read and am familiar with the regulations contained in title 50, part 13, of the Code of Federal Regulations and the other applicable parts in subchapter B of chapter I of title 50, Code of Federal Regulations, and I further certify that the information submitted in this application for a permit is complete and accurate to the best of my knowledge and belief. I understand that any false statement herein may subject me to suspension or revocation of this permit and to the criminal penalties of 18 U.S.C. 1001.”

• Requested effective date of permit (except where issuance date is fixed by the part under which the permit is issued);

• Current date;

• Signature of the applicant;

• Such other information as the Director determines relevant to the processing of the application, including but not limited to

—Information on the environmental effects of the activity consistent with 40 CFR 1506.5 and Departmental procedures at 516 DM 6, appendix 1.3A; and

—Additional information required on applications for other types of permits may be found by referring to Table 1 to Paragraph (b) in 50 CFR 13.12.

Standardization of general information common to the application forms makes the filing of applications easier for the public, as well as expediting our review of applications. The information that we collect on applications and reports is the minimum necessary for us to determine if the applicant meets/continues to meet issuance requirements for the particular activity.

Proposed Revisions to This Information Collection

With this submission, we are proposing the following revisions to the existing information collection:

Revisions to Section E in Permit Applications

In 2020, the Service implemented a new automated permit application called ePermits. The ePermits system allowed the Service to move towards a streamlined permitting process to reduce the information collection burden on the public, particularly small businesses. Public burden reduction is a priority for the Service; the Assistant Secretary for Fish and Wildlife and Parks; and senior leadership at the Department of the Interior. The intent of the ePermits system is to fully automate the permitting process to improve the customer experience and to reduce time burden on respondents. This system enhances the user experience by allowing users to enter data from any device that has internet access, including personal computers, tablets, and smartphones. It also links the permit applicant to the Pay.gov system for payment of the associated permit application fee.

Users of the ePermits system register for and use an account which will then automatically populate the forms they complete with the required identification information. The system eliminates the need for applicants to enter their information multiple times when they apply for separate permits and reducing burden on the applicant. The account registration process will also provide private sector users an opportunity to self-identify as a small business which will enable the Service to more accurately report burden associated with information collection requirements placed on them.

At this time, the ePermits system is unable to fully automate Section E of the permit application process. Section E of each permit application is customized based on the permit type. We anticipate being able to begin digitizing Section E on our forms in calendar year 2022. As a result of challenges with the development of forms within the ePermits system, we do not have a timeline for full automation of Section E. We anticipate beginning the digitization of the report forms contained in this collection by 2023 and believe the digitization of Section E on application forms should be finalized by fiscal year 2024, as funding and resources become available.

We do not anticipate changes to the questions within Section E of each application form. We also do not plan to make changes to the annual report forms contained in this collection. However, we do anticipate proposing the following changes to certain permit application forms contained in this collection, to include:

• Applicants will be able to select the type of business they manage (for-profit, small business, farm, not-for-profit, or government entity).

• Requesting businesses using ePermits provide email addresses for both the principal officer and the business.

• The signature block will be replaced by with electronic submission of the online applications.

• The ePermits system will also:

—Allow users to apply on behalf of another individual or business as a new way to identify if a consultant is applying for a client.

—Ask for the name of the authorized individual to include on the permit and will allow a business to nickname their applications.

—Ask the applicant to identify the location where the majority of the authorized activities will occur.

—Ask the applicant to identify the physical address of the preparer of application.

—Ask the applicants to identify if they are tax exempt.

—Prompt applicants to provide their preferred contact method.

—Prompt the applicant to describe changes associated with amendments or renewals (with changes) of their permit.

—Prompt applicants to opt in or out to release their information for all applications except migratory bird rehabilitation permits (businesses are automatically opted in).

—Prompt the applicant to provide a parent permit number, which allows the ePermits System to direct the user to the correct version of their permit for renewals or amendments to a permit.

Falconry Program

We propose to modify FWS Form 3-186A to update the field “USFWS Band Number” to say “USFWS/State/Tribe/Territory band number” and ”USFWS Permit Number” to “USFWS/State/Tribe/Territory permit number.”

Migratory Bird Permit Program Service Manual Chapters

With this submission, we will seek OMB approval of the Migratory Bird Permit Program Handbook and associated Service Manual chapters at 724 FW 1 (“Migratory Bird Permits”) and 724 FW 2 (“Migratory Bird Management”), all of which contain information collections. The Handbook provides detailed procedures and other operational information to implement the Service Manual chapters in part 724 and more generally in part 720.

New and existing information collections contained in the Handbook requiring OMB approval include the following:

• Renewal procedures associated with the reauthorization of an existing permit (with or without changes to the conditions);

• Reinstatement procedures associated with the reauthorization of an existing permit (with or without changes to the conditions);

• Discontinuance procedures at the permittee's request to discontinue a valid permit;

• Solicitation of appropriate documentation from entities authorized to act on behalf of State, local, Tribal, and Federal government agencies to verify their exempt status for fee exemption purposes;

• Fee waiver request process as outlined in 50 CFR 13.11(d)(3)(iii);

• Requests for reconsideration of a denial, partial denial, suspension, or revocation of a permit (requiring submission of a written request with the required information in 50 CFR 13.29(b) within 45 days after the permit decision); and

• Appeals of reconsideration request decisions (requiring the permittee submit a written request to the Regional Director (see 50 CFR 13.29(e)) within 45 days of the reconsideration decision).

The public may request copies of any form or document contained in this information collection by sending a request to the Service Information Collection Clearance Officer in ADDRESSES, above.

Title of Collection: Federal Fish and Wildlife Permit Applications and Reports—Migratory Birds; 50 CFR 10, 13, 20, and 21.

OMB Control Number: 1018-0022.

Form Numbers: FWS Forms 3-186, 3-186A, 3-200-6 through 3-200-9, 3-200-10a through 3-200-10c, 3-200-10e, 3-200-10f, 3-200-12 through 3-200-13, 3-200-67, 3-200-79, 3-200-81, 3-202-1 through 3-202-10, 3-202-12, and 3-202-17.

Type of Review: Revision of an existing information collection.

Respondents/Affected Public: Individuals; private sector (including zoological parks, museums, universities, scientists, taxidermists, businesses, and utilities); and State, local, Tribal, and Federal governments.

Total Estimated Number of Annual Respondents: 27,980.

Total Estimated Number of Annual Responses: 53,510.

Estimated Completion Time per Response: Varies from 15 minutes to 260 hours, depending on activity.

Total Estimated Number of Annual Burden Hours: 394,967.

Respondent's Obligation: Required to obtain or retain a benefit.

Frequency of Collection: On occasion for applications; annually or on occasion for reports.

Total Estimated Annual Nonhour Burden Cost: $491,050 (primarily associated with application processing fees).

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-10538 Filed 5-16-22; 8:45 am]

BILLING CODE 4333-15-P